EXPORT-IMPORT BANK

[Public Notice 2015-6015]

Agency Information Collection Activities: Final Collection; Comment Request

AGENCY: Export-Import Bank of the United States.

ACTION: Submission for OMB Review and Comments Request.

Form Title: EIB 94-08 Notification and Assignment by Insured to Financial Institution of Medium Term Export Credit Insurance Policy.

SUMMARY: The Export-Import Bank of the United States (Ex-Im Bank), as a part of its continuing effort to reduce paperwork and respondent burden, invites the general public and other Federal Agencies to comment on the proposed information collection, as required by the Paperwork Reduction Act of 1995. This collection of information is necessary, pursuant to 12 U.S.C. Sec. 635(a)(1), to determine where insurance proceeds should be sent and to determine which exporters require lender financing of their insured receivables.

Ex-Im Bank's exporter policy holders, along with the financial institution providing it with financing, provide this form to Ex-Im Bank. The form transfers the duties and obligations of the insured exporter to the financial institution. It also provides certifications to the financial institution and Ex-Im Bank that the financed export transaction results in a valid, enforceable, and performing debt obligation. Exporter policy holders need this form to obtain financing for their medium term export sales.

The form can be viewed at http://www.exim.gov/sites/default/files/pub/pending/eib94-08.pdf.

DATES: Comments should be received on or before August 31, 2015 to be assured of consideration.

ADDRESSES: Comments may be submitted electronically on www.regulations.gov or by mail to Michele Kuester, Export-Import Bank of the United States, 811 Vermont Ave. NW., Washington, DC 20571.

SUPPLEMENTARY INFORMATION:

Titles and Form Number: EIB 94-08 Notification and Assignment by Insured to Financial Institution of Medium Term Export Credit Insurance Policy.

OMB Number: 3048-0040.

Type of Review: Regular.

Need and Use: The form transfers the duties and obligations of the insured exporter to the financial institution. It also provides certifications to the financial institution and Ex-Im Bank that the financed export transaction results in a valid, enforceable, and performing debt obligation. Exporter policy holders need this form to obtain financing for their medium term export sales.

Affected Public: This form affects entities involved in the export of U.S. goods and services.

Annual Number of Respondents: 50.

Estimated Time per Respondent: 10 minutes.

Annual Burden Hours: 8.3 hours.

Frequency of Reporting or Use: As needed.

Government Expenses:

Reviewing time per year: 12 hours.

Average Wages per Hour: $42.50.

Average Cost per Year: $510 (time * wages).

Benefits and Overhead: 20%.

Total Government Cost: $612.

Bonita Jones-McNeil,
Agency Clearance Officer.

[FR Doc. 2015-16052 Filed 6-30-15; 8:45 am]

BILLING CODE 6690-01-P